DEPARTMENT OF COMMERCE

National Oceanic and Atmospheric Administration

RIN 0648-XE735

Pacific Fishery Management Council; Webinar

AGENCY: National Marine Fisheries Service (NMFS), National Oceanic and Atmospheric Administration (NOAA), Commerce.

ACTION: Notice of webinar.

SUMMARY: The Pacific Fishery Management Council's (Pacific Council's) Scientific and Statistical Committee (SSC) will hold a webinar to approve new overfishing limit (OFL) estimates for Pacific ocean perch and to discuss plans for two upcoming workshops. The webinar is open to the public.

DATES: The SSC webinar will commence at 2 p.m. PST, Tuesday, August 2, 2016 and continue until 4 p.m. or as necessary to complete business for the day.

ADDRESSES: To attend the SSC webinar, please join online at http://www.gotomeeting.com/online/webinar/join-webinar and enter the webinar ID: 120-344-715, as well as your name and email address. After logging in to the webinar, please call the toll number 1 (562) 247-8321 and enter 348-717-205 when prompted for the audio access code. Participants are encouraged to use their telephone, as this is the best practice to avoid technical issues and excessive feedback. (See the PFMC GoToMeeting Audio Diagram for best practices). A public listening station will also be provided at the Council office.

Council address: Pacific Fishery Management Council, 7700 NE Ambassador Place, Suite 101, Portland, OR 97220-1384; telephone: 503-820-2280.

FOR FURTHER INFORMATION CONTACT: Mr. John DeVore, Pacific Council; telephone: (503) 820-2280.

SUPPLEMENTARY INFORMATION: The specific objectives of the SSC webinar are to approve new OFL estimates for Pacific ocean perch for use in establishing 2017-18 specifications and management measures, and to advance plans for two upcoming workshops (historical catch reconstruction workshop and a stock productivity workshop) sponsored by the Pacific Council and NMFS. Public comments during the webinar will be received from attendees at the discretion of the SSC chair.

Although non-emergency issues not identified in the webinar agenda may come before the webinar participants for discussion, those issues may not be the subject of formal action during this webinar. Formal action at the webinar will be restricted to those issues specifically listed in this notice and any issues arising after publication of this notice that require emergency action under section 305(c) of the Magnuson-Stevens Fishery Conservation and Management Act, provided the public has been notified of the webinar participants' intent to take final action to address the emergency.

Technical Information and System Requirements

PC-based attendees: Required: Windows® 7, Vista, or XP. Mac®-based attendees: Required: Mac OS® X 10.5 or newer. Mobile attendees: Required: iPhone®, iPad®, Android™ phone or Android tablet GoToMeeting Webinar Apps). You may send an email to Mr. Kris Kleinschmidt or contact him at (503) 820-2280, extension 425 for technical assistance.

Special Accommodations

This meeting is physically accessible to people with disabilities. Requests for auxiliary aids should be directed to Mr. Kris Kleinschmidt at (503) 820-2425 at least 5 days prior to the webinar date.

Dated: July 13, 2016.
Tracey L. Thompson,
Acting Deputy Director, Office of Sustainable Fisheries, National Marine Fisheries Service.

[FR Doc. 2016-16909 Filed 7-15-16; 8:45 am]

BILLING CODE 3510-22-P